DEPARTMENT OF HEALTH AND HUMAN SERVICES

National Institutes of Health

Request for Comments on National Institute of Dental and Craniofacial Research's 2030 Strategic Visioning Initiative

SUMMARY: The National Institute of Dental and Craniofacial Research (NIDCR) is pleased to launch NIDCR 2030, a strategic visioning initiative designed to advance dental, oral, and craniofacial research over the next 15 years.

The purpose of this Request for Comments (RFC) is to seek input on how best to ensure that dental, oral, and craniofacial health and disease are understood in the context of the whole body, and that research transforms how we promote health, treat disease, and overcome health disparities.

Visit the NIDCR 2030 Web site to submit your research ideas and vote and comment on the ideas of others: https://nidcr2030.ideascale.com/. We'll use your ideas and comments to plan future workshops and identify themes for potential funding opportunities.

DATES: The Idea submission period ends May 19, 2017. All votes must be entered by June 2, 2017.

ADDRESSES: Ideas, comments, and votes can be submitted to https://nidcr2030.ideascale.com/.

FOR FURTHER INFORMATION CONTACT: Questions about this request for comments should be directed to Dr. Morgan O'Hayre, National Institute of Dental and Craniofacial Research, National Institutes of Health, Building 31, Room 2C39, Bethesda, MD 20892, ohayrem@mail.nih.gov, 301-594-4862. You may also contact the NIDCR 2030 Team, at nidcr2030@nidcr.nih.gov.

SUPPLEMENTARY INFORMATION:

Background

The National Institute of Dental and Craniofacial Research is the nation's leading supporter of dental, oral, and craniofacial research. In 2030, we imagine a world where dental, oral, and craniofacial health and disease are understood in the context of the whole body, and research transforms how we promote health, treat disease, and overcome health disparities, so all people have the opportunity to lead healthy lives. To achieve what we've imagined, we need you. Please join us in a discussion about what it will take to reach our visionary goals in five key areas:

• Integrating oral health and overall health

• Developing precision prevention, treatment, and public health interventions

• Taking advantage of the body's ability to heal itself through autotherapies

• Using the mouth as a diagnostic and treatment portal

• Encouraging workforce diversity

Review Process

Idea submissions and comments will be reviewed by subject matter experts, including intramural and extramural NIDCR staff, based on five criteria:

• Innovation

• Impact on science, health, and health disparities

• Alignment with NIDCR mission

• Feasibility

• Number of votes

Outcomes

Idea submissions and comments will be used to advance the goals of NIDCR 2030 and identify themes for potential funding opportunities. No financial rewards will be given for idea submissions.

Dated: May 2, 2017.
John W. Kusiak,
Acting Director, National Institute of Dental and Craniofacial Research.

[FR Doc. 2017-09859 Filed 5-15-17; 8:45 am]

BILLING CODE 4140-01-P